DEPARTMENT OF ENERGY

Environmental Management Site-Specific Advisory Board Chairs

AGENCY: Department of Energy.

ACTION: Notice of cancellation of open meeting.

SUMMARY: On March 28, 2011, in FR Doc. 2011-7243, on page 17118, the Department of Energy (DOE) published a notice of open meeting announcing a meeting on April 13-14, 2011 of the Environmental Management Site-Specific Advisory Board Chairs (76 FR 17118). This notice announces the cancellation of this meeting.

FOR FURTHER INFORMATION CONTACT: Catherine Alexander Brennan, Designated Federal Officer, U.S. Department of Energy, 1000 Independence Avenue, SW., Washington, DC 20585; Phone: (202) 586-7711.

Issued at Washington, DC, on April 8, 2011.
LaTanya R. Butler,
Acting Deputy Committee Management Officer.

[FR Doc. 2011-8970 Filed 4-8-11; 4:15 pm]

BILLING CODE 6450-01-P